DEPARTMENT OF STATE

[Public Notice No. 3886]

Advisory Committee on Historical Diplomatic Documentation; Notice of Meeting

The Advisory Committee on Historical Diplomatic Documentation will meet in the Department of State, 2201 “C” Street NW, Washington, DC, March 4-5, 2002, in Conference Room 1105. Prior notification and a valid photo are mandatory for entrance into the building. One week before the meeting, members of the public planning to attend must notify Gloria Walker, Office of the Historian (202-663-1124) to provide relevant dates of birth, Social Security numbers, and telephone numbers.

The Committee will meet in open session from 1:30 p.m. through 3:00 p.m. on Monday, March 4, 2002, to discuss declassification and transfer of Department of State electronic records to the National Archives and Records Administration and the modernization of the Foreign Relations series. The remainder of the Committee's sessions from 3:15 p.m. until 4:30 p.m. on Monday, March 4, 2002, and 9:00 a.m. until 1:00 p.m. on Tuesday, March 5, 2002, will be closed in accordance with section 10(d) of the Federal Advisory Committee Act (Pub. L. 92-463). The agenda calls for discussions of agency declassification decisions concerning the Foreign Relations series. These are matters not subject to public disclosure under 5 U.S.C. 552b(c)(1) and the public interest requires that such activities be withheld from disclosure.

Questions concerning the meeting should be directed to Marc J. Susser, Executive Secretary, Advisory Committee on Historical Diplomatic Documentation, Department of State, Office of the Historian, Washington, DC, 20520, telephone (202) 663-1123, (e-mail: history@state.gov).

Dated: February 11, 2002.
Marc J. Susser,
Executive Secretary, Advisory Committee on Historical Diplomatic Documentation, Department of State.

[FR Doc. 02-4167 Filed 2-20-02; 8:45 am]

BILLING CODE 4710-11-P